DEPARTMENT OF VETERANS AFFAIRS

Privacy Act of 1974; System of Records

AGENCY: Department of Veterans Affairs (VA).

ACTION: Notice of Amendment of Systems of Records Notice “Repatriated American Prisoners of War—VA” (60VA21).

SUMMARY: As required by the Privacy Act of 1974 (5 U.S.C. 552a(e)(4)), notice is hereby given that the Department of Veterans Affairs (VA) is updating a system of records in its inventory entitled “Repatriated American Prisoners of War—VA” (60VA21). VA is amending the system of records by revising the Purpose(s), System Manager and address, and Routine Uses of Records Maintained in the System. VA is republishing the system notice in its entirety.

DATES: Comments on this amended system of records must be received no later than November 5, 2010. If no public comment is received during the period allowed for comment or unless otherwise published in the Federal Register by VA, the amended system will become effective November 5, 2010.

ADDRESSES: Written comments may be submitted through http://www.Regulations.gov; by mail or hand-delivery to the Director, Regulation Management (02REG), Department of Veterans Affairs, 810 Vermont Ave., NW., Room 1068, Washington, DC 20420; or by fax to 202-273-9026. Copies of comments received will be available for public inspection in the Office of Regulation Policy and Management, Room 1063B, between the hours of 8 a.m. and 4:30 p.m. Monday through Friday (except holidays). Please call 202-461-4902 for an appointment. (This is not a toll free number.) In addition, during the comment period, comments may be viewed online through the Federal Docket Management System (FDMS) at https://www.Regulations.gov.

FOR FURTHER INFORMATION CONTACT: Thomas J. Murphy, Director, Compensation and Pension Service, Veterans Benefits Administration (VBA), Department of Veterans Affairs, 810 Vermont Avenue, NW., Washington, DC 20420, 202-461-9700.

SUPPLEMENTARY INFORMATION:

I. Description of Proposed Systems of Records

This system will collect a limited amount of personally identifiable information in order to provide service to Veterans, service members, reservists, and their spouses, surviving spouses, and dependents, who file claims for a wide variety of Federal veteran's benefits administered by VA at VA facilities located throughout the nation. See the statutory provisions cited in “Authority for maintenance of the system.” VA gathers or creates these records in order to enable it to administer these statutory benefits programs.

The Department of the Veterans Affairs notices for systems of records subject to the Privacy Act of 1974 (5 U.S.C. 552a), as amended, have been published in the Federal Register and are available from the address above.

The proposed system reports, as required by 5 U.S.C. 552a(r), of the Privacy Act of 1974, as amended, were submitted to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (61 FR 6427, February 20, 1996).

The Purpose in this system of records is being added to provide explanation for the information collection and list affected individuals. In this system of records the name and address of the System Owner have been updated for accuracy.

The notice of amendment and an advance copy of the system notice have been sent to the appropriate Congressional committees and to the Director of Office of Management and Budget (OMB) as required by 5 U.S.C. 552a(r) and guidelines issued by OMB (65 FR 77677, December 12, 2000).

II. Proposed Routine Use Disclosures of Data in the System

The routine uses of records maintained in the system, including categories of users and the purposes of such uses, are being amended to protect the confidentiality and release of VA records subject to 38 U.S.C. 5701, which prohibits disclosure under a routine use inconsistent with existing statutes. Routine use numbers 6, 7, 8, 9, 10, 11 and 12 have been added in accordance with this authority.

Routine use number 1 has been revised to require that individuals covered by this system provide written requests for disclosures to be made to members of Congress or their staff. Routine use 6 was added to allow for the disclosure of information to the National Archives and Records Administration (NARA) and the General Services Administration (GSA) in records management inspections conducted under authority of chapter 29 of title 44, United States Code. Routine use 7 was added to allow for the disclosure of information in this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its own initiative, may disclose records in this system of records in legal proceedings before a court or administrative body after determining that the disclosure of records to the court or administrative body is a use of the information contained in the records that is compatible with the purpose for which VA collected the records. Routine use 8 was added to allow for the disclosure of information to individuals, organizations, public or private agencies, or other entities with whom VA has a contract or agreement or where there is a subcontract to perform the services as VA may deem practicable for the purposes of laws administered by VA, in order for the contractor or subcontractor to perform the services of the contract or agreement. Routine use 9 was added to allow for the disclosure of information in this system, except the names and mailing addresses of veterans and their dependents, that is relevant to a suspected violation or reasonably imminent violation of law, whether civil, criminal or regulatory in nature and whether arising by general or program statute or by regulation, rule or order issued pursuant thereto, to a Federal, State, local, tribal, or foreign agency charged with the responsibility of investigating or prosecuting such violation, or charged with enforcing or implementing the statute, rule, regulation or order. Routine use 10 was added to allow for the disclosure of information to other Federal agencies to assist such agencies in preventing and detecting possible fraud or abuse by individuals in their operations and programs. Routine use 11 was added to allow for the disclosure of information or records to appropriate agencies, entities, and persons when (1) VA suspects or has confirmed that the integrity or confidentiality of information in the system of records has been compromised; (2) VA has determined that as a result of the suspected or confirmed compromise, there is a risk of embarrassment or harm to the reputations of the record subjects, harm to the economic or property interests, identity theft or fraud, or harm to the programs (whether maintained by VA or another agency or entity) that rely upon the potentially compromised information; and (3) the disclosure is to agencies, entities, or persons whom VA determines are reasonably necessary to assist or carry out VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727. Routine use 12 was added to allow for the disclosure of the name and mailing address of a VA beneficiary, and other information as is reasonably necessary to identify such a beneficiary, who has been adjudicated as incompetent under 38 CFR 3.353, to the Attorney General of the United States or his/her designee, for use by the Department of Justice in the National Instant Criminal Background Check System (NICS) mandated by the Brady Handgun Violence Prevention Act, Public Law 103-159.

Approved: September 13, 2010.
John R. Gingrich,
Chief of Staff, Department of Veterans Affairs.

60VA21

SYSTEM NAME:

Repatriated American Prisoners of War—VA (60VA21).

SYSTEM LOCATION:

Records are maintained at the Department of Veterans Affairs (VA) regional offices, VA Medical Centers, the VA Records Management Center, St. Louis, Missouri, and at the Corporate Franchise Data Center in Austin, Texas. Address locations are listed in the VA Appendix I, located at the end of this document.

CATEGORIES OF INDIVIDUALS COVERED BY THE SYSTEM:

Individuals who are repatriated prisoners of war, including but not limited to those of World War II; Korean Conflict; Vietnam Era; Pueblo Crisis; the members of the group known as Civilian Employees, Pacific Naval Air Bases, who actively participated in the defense of Wake Island and were determined to be eligible for veterans' benefits under Public Law 95-202; and those determined by the VA to have been held as prisoners of war during peacetime.

CATEGORIES OF RECORDS IN THE SYSTEM:

Personal identification information related to the POW experience and identifying data, e.g., name, social security number, file number, service number, date of birth, date of death (if applicable), period of service, branch of service, entitlement code, aid and attendance or household status, number of service-connected disabilities, number of days interned as a POW, place of internment and hospital discharge data.

AUTHORITY FOR MAINTENANCE OF THE SYSTEM:

Title 38, United States Code, Chapter 3, section 501(a), (b) and Chapters 11, 13, 17, 19, 24, 34, 51, 71, and 72.

PURPOSE:

Maintain records and provide benefits to repatriated prisoners of war who file claims for a wide variety of Federal veteran's benefits administered by VA at VA facilities located throughout the nation. See the statutory provisions cited in “Authority for maintenance of the system”. VA gathers or creates these records in order to enable it to administer these statutory benefits programs.

ROUTINE USES OF RECORDS MAINTAINED IN THE SYSTEM, INCLUDING CATEGORIES OF USERS AND THE PURPOSES OF SUCH USES:

1. The record of an individual who is covered by this system may be disclosed to a member of Congress or staff person acting for member when the member or staff person requests the record on behalf of and at the written request of the individual.

2. Any information in this system relevant to a veteran's claim such as the name, military service information and the number of days interned as a POW may be disclosed at the request of the veteran to accredited service organizations, VA-approved claims agents and attorneys acting under a declaration of representation so that these individuals can aid veterans in the preparation, presentation and prosecution of claims under the laws administered by the VA. The name of a veteran will not, however, be disclosed to these individuals under this routine use if the veteran has not requested the assistance of an accredited service organization, claims agent or an attorney.

3. Any information in this system may be disclosed to the Office of the Secretary of Defense, International Security Affairs (POW/MIA), upon their official request, in order to aid the Department in verifying the status of individuals who were prisoners of war or missing in action and/or in determining their most recent location.

4. Any information in this system (excluding the name of a veteran unless the name is furnished by the requestor) may be disclosed to epidemiological and other research facilities approved by the Chief Medical Director to obtain data from those facilities necessary to assist in medical studies on veterans for the Veterans Administration or for any research purposes determined to be necessary and proper by the Chief Medical Director.

5. The name(s) of a veteran may be disclosed to another Federal agency or to a contractor of that agency at the written request of the head of that agency for the purpose of conducting government research necessary to accomplish a statutory purpose of that agency.

6. Disclosure may be made to the National Archives and Records Administration (NARA) and the General Services Administration (GSA) in records management inspections conducted under authority of chapter 29 of title 44, United States Code.

7. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its on initiative, may disclose records in this system of records in legal proceedings before a court or administrative body after determining that the disclosure of records to the court or administrative body is a use of the information contained in the records that is compatible with the purpose for which VA collected the records.

8. Disclosure of relevant information may be made to individuals, organizations, public or private agencies, or other entities with whom VA has a contract or agreement or where there is a subcontract to perform such services as VA may deem practicable for the purposes of laws administered by VA, in order for the contractor or subcontractor to perform the services of the contract or agreement.

9. VA may disclose on its own initiative any information in this system, except the names and mailing addresses of veterans and their dependents, that is relevant to a suspected violation or reasonably imminent violation of law, whether civil, criminal or regulatory in nature and whether arising by general or program statute or by regulation, rule or order issued pursuant thereto, to a Federal, State, local, tribal, or foreign agency charged with the responsibility of investigating or prosecuting such violation, or charged with enforcing or implementing the statute, rule, regulation or order.

10. Disclosure to other Federal agencies may be made to assist such agencies in preventing and detecting possible fraud or abuse by individuals in their operations and programs.

11. VA may on its own initiative, disclose any information or records to appropriate agencies, entities, and persons when (1) VA suspects or has confirmed that the integrity or confidentiality of information in the system of records has been compromised; (2) VA has determined that as a result of the suspected or confirmed compromise, there is a risk of embarrassment or harm to the reputations of the record subjects, harm to the economic or property interests, identity theft or fraud, or harm to the programs (whether maintained by VA or another agency or entity) that rely upon the potentially compromised information; and (3) the disclosure is to agencies, entities, or persons whom VA determines are reasonably necessary to assist or carry out VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727.

12. The name and mailing address of a VA beneficiary, and other information as is reasonably necessary to identify such a beneficiary, who has been adjudicated as incompetent under 38 CFR 3.353, may be provided to the Attorney General of the United States or his/her designee, for use by the Department of Justice in the National Instant Criminal Background Check System (NICS) mandated by the Brady Handgun Violence Prevention Act, Public Law 103-159.

POLICIES AND PRACTICES FOR STORING, RETRIEVING, ACCESSING, RETAINING, AND DISPOSING OF RECORDS IN THE SYSTEM:

STORAGE:

Records (or information contained in records) are maintained on paper documents in claims folders (C-folders), vocational rehabilitation folders, electronic file folders (e.g., Virtual VA and TIMS File), and on automated storage media (e.g., microfilm, microfiche, magnetic tape and disks). Such information may be accessed through data telecommunication terminal systems designated the Benefits Delivery Network (BDN), Virtual VA and Veterans Service Network (VETSNET). BDN, Virtual VA and VETSNET terminal locations include VA Central Office, regional offices, VA health care facilities, and Veterans Integrated Service Network (VISN) offices. Remote on-line access is also made available to authorized remote sites, representatives of claimants and to attorneys of record for claimants. A VA claimant must execute a prior written consent or a power of attorney authorizing access to his or her claims records before VA will allow the representative or attorney to have access to the claimant's automated claims records. Access by representatives and attorneys of record is to be used solely for the purpose of assisting an individual claimant whose records are accessed in a claim for benefits administered by VA.

RETRIEVABILITY:

File folders, whether paper or electronic, are indexed by name of the individual, social security number, payee number, and type of benefit.

SAFEGUARDS:

Access to the basic file in the Corporate Franchise Data Center in Austin, Texas is restricted to authorized VA employees and vendors. Access to working spaces and claims folder file storage areas in VA regional offices and centers is restricted to VA employees on a need-to-know basis. Generally, file areas are locked after normal duty hours and the offices and centers are protected from outside access by the Federal Protective Service or other security personnel. Employee claims file records and claims file records of public figures are stored in separate locked files. Strict control measures are enforced to ensure that access to and disclosure from these claims file records are limited to a need-to-know basis.

Access to BDN, Virtual VA, and VETSNET data telecommunication networks are by authorization controlled by the site security officer who is responsible for authorizing access to BDN, Virtual VA, and VETSNET by a claimant's representative or attorney approved for access in accordance with VA regulations. The site security officer is responsible for ensuring that the hardware, software, and security practices of a representative or attorney satisfy VA security requirements before granting access. The security requirements applicable to the access of automated claims files by VA employees also apply to the access of automated claims files by claimants' representatives or attorneys. The security officer is assigned responsibility for privacy-security measures, especially for review of violation logs, information logs, and control of password distribution, including password distribution for claimants' representatives.

Access to data processing centers is generally restricted to center employees, custodial personnel, Federal Protective Service, and other security personnel. Access to computer rooms is restricted to authorized operational personnel through electronic locking devices. All other persons provided access to computer rooms are escorted.

RETENTION AND DISPOSAL:

Records are maintained on magnetic tape, disks, and microfiche and are retained and disposed of in accordance with disposition and authorization approved by the National Archives and Records Administration. Once a file is electronically imaged and accepted by VA, its paper contents (with the exception of service treatment records and official legal documents), are destroyed in accordance with Records Control Schedule VB-1 Part 1 Section XIII, as authorized by the National Archives and Records Administration (NARA) of the United States.

SYSTEM MANAGER(S) AND ADDRESS:

Director, Compensation and Pension Service (21), VA Central Office, 810 Vermont Avenue, NW., Washington, DC 20420.

NOTIFICATION PROCEDURE:

Any individual who wishes to determine whether a record is being maintained in this system under his or her name or other personal identifier, or wants to determine the contents of such record should submit a written request or apply in person to the nearest VA regional office or medical center. Addresses for these offices may be found in VA Appendix 1 at the end of this document. Inquiries should include as much of the following information as possible: The veteran's full name, VA file number, service number, and social security number. The magnetic tape is indexed by the veteran's service, VA file or social security number. The microfiche is indexed by the veteran's name with secondary verification by the veteran's service, VA file, or social security number.

RECORD ACCESS PROCEDURES:

Individuals seeking information regarding access to and contesting of VA records may write, call, or visit the nearest VA regional office. Address locations are listed in VA Appendix 1.

CONTESTING RECORD PROCEDURES:

See Record access procedures above.

RECORD SOURCE CATEGORIES:

The Department of Defense, National Archives and Records Administration, Veterans, service members, reservists, spouses, surviving spouses, dependents and other beneficiaries of the veteran, accredited service organizations, VA-supervised fiduciaries (i.e., VA Federal fiduciaries, court-appointed fiduciaries), military service departments, VA medical facilities and physicians, private medical facilities and physicians, education and rehabilitation training establishments, State and local agencies, other Federal agencies, State, local, and county courts and clerks, Federal, State, and local penal institutions and correctional facilities, other third parties and other VA records.

Appendix 1:

Department of Veterans Affairs Regional Offices and Centers

Alabama AL

VA Regional Office, 345 Perry Hill Rd., Montgomery, Alabama 36109.

Alaska AK

VA Regional Office, 1201 N Muldoon Rd., Anchorage 99504.

Arizona AZ

VA Regional Office, 3333 North Central Ave., Phoenix, Arizona 85012.

Arkansas AR

VA Regional Office, 2200 Fort Roots Dr., Bldg.65, North Little Rock, Arkansas 72144.

California CA

VA Regional Office, Federal Bldg., 11000 Wilshire Blvd., Los Angeles, California 90024.

VA Regional Office, 1301 Clay St., Rm. 1300 North, Oakland, California 94612.

VA Regional Office, 8810 Rio San Diego Dr., San Diego, California 92108.

Colorado CO

VA Regional Office, 155 Van Gordon St., Lakewood, Colorado 80228.

Connecticut CT

VA Regional Office, 555 Willard Ave., Newington, Connecticut 06111.

Delaware DE

VA Regional Office, 1601 Kirkwood Hwy., Wilmington, Delaware 19805.

District of Columbia DC

VA Regional Office, 1722 I St., NW., Washington, DC 20421.

VA Central Office, 810 Vermont Ave., NW., Washington, DC 20420.

Florida FL

VA Regional Office, 9500 Bay Pines Blvd., St. Petersburg, Florida 33708.

Georgia GA

VA Regional Office, 1700 Clairmont Rd., Decatur, Georgia 30033.

Hawaii HI

VA Regional Office, 459 Patterson Rd., E-Wing, Honolulu, Hawaii 96819.

Idaho ID

VA Regional Office, 444 W. Fort St., Boise, Idaho 83702.

Illinois IL

VA Regional Office, 2122 W. Taylor St., Chicago, Illinois 60612.

Indiana IN

VA Regional Office, 575 N. Pennsylvania St., Indianapolis, Indiana 46204.

Iowa IA

VA Regional Office, 210 Walnut St., Des Moines, Iowa 50309.

Kansas KS

VA Regional Office, 5500 E. Kellogg Ave., Wichita, Kansas 67128.

Kentucky KY

VA Regional Office, 321 W. Main St., Ste. 390, Louisville, Kentucky 40202.

Louisiana LA

VA Regional Office, 1250 Poydras St., New Orleans, Louisiana 70056.

Maine ME

VA Regional Office, One VA Center, Augusta, Maine 04330.

Maryland MD

VA Regional Office, Federal Bldg., 31 Hopkins Plaza, Baltimore, Maryland 21201.

Massachusetts MA

VA Regional Office, John Fitzgerald Kennedy Federal Bldg., Government Center, Boston, Massachusetts 02203.

Michigan MI

VA Regional Office, Patrick V. McNamara Federal Bldg., 477 Michigan Ave., Rm. 1400, Detroit, Michigan 48226.

Minnesota MN

VA Regional Office, Bishop Henry Whipple Federal Bldg., 1 Federal Dr., Fort Snelling, St. Paul, Minnesota 55111.

Mississippi MS

VA Regional Office, 1600 East Woodrow Wilson Ave., Jackson, Mississippi 39216.

Missouri MO

VA Regional Office, 400 South 18th St., St. Louis, Missouri 63103.

Montana MT

VA Regional Office, 3633 Veterans Dr., Fort Harrison, Montana 59636.

Nebraska NE

VA Regional Office, 5631 S. 48th St., Lincoln, Nebraska 68516.

Nevada NV

VA Regional Office, 5460 Reno Corporate Dr., Reno, Nevada 89511.

VA Benefits Office, 4800 Alpine Pl., Suite 12, Las Vegas, Nevada 89107.

New Hampshire NH

VA Regional Office, Norris Cotton Federal Bldg., 275 Chestnut St., Manchester, New Hampshire 03101.

New Jersey NJ

VA Regional Office, 20 Washington Place, Newark, New Jersey 07120.

New Mexico NM

VA Regional Office, Dennis Chavez Federal Bldg., 500 Gold Ave., SW., Albuquerque, New Mexico 87102.

New York NY

VA Regional Office, 245 W. Houston St., New York, New York 10014.

VA Regional Office, Niagra Center, 130 S. Elmwood Ave., Buffalo, New York 14202.

North Carolina NC

VA Regional Office, Federal Office Building, 251 North Main Street, Winston-Salem, North Carolina 27155.

North Dakota ND

VA Regional Office, 2101 Elm St., Fargo, North Dakota 58102.

Ohio OH

VA Regional Office, Anthony J. Celebreeze Federal Office Bldg., 1240 East Ninth St., Cleveland, Ohio 44199.

Oklahoma OK

VA Regional Office, 125 South Main St., Muskogee, Oklahoma 74401.

Oregon OR

VA Regional Office, Edith Green/Wendell Wyatt Federal Building, 1220 S.W. Third Ave., Portland, Oregon 97204.

Pennsylvania PA

VA Regional Office, 1000 Liberty Ave., Pittsburgh, Pennsylvania 15222.

VA Regional Office and Insurance Center, 5000 Wissahickon Ave., Philadelphia, Pennsylvania 19101.

Philippines

VA Regional Office and Outpatient Clinic, 1131 Roxas Blvd., Manila, Philippines; MAILING ADDRESS from U.S.: VA Regional Office, PSC 501, DPO AP 96515-1100.

Puerto Rico, Commonwealth of (including the Virgin Islands)

VA Regional Office, 150 Carlos Chardon Ave., Suite 300, San Juan, Puerto Rico 00918.

Rhode Island RI

VA Regional Office, 380 Westminster Street, Providence, Rhode Island 02903.

South Carolina SC

VA Regional Office, 6437 Garners Ferry Rd., Columbia, South Carolina 29201.

South Dakota SD

VA Regional Office, P.O. Box 5046, 2501 W. 22nd St., Sioux Falls, South Dakota 57105.

Tennessee TN

VA Regional Office, 110 9th Ave. South, Nashville, Tennessee 37203.

Texas TX

VA Regional Office, 6900 Almeda Rd., Houston, Texas 77030.

VA Regional Office, One Veterans Plaza, 701 Clay Ave., Waco, Texas 76799.

Utah UT

VA Regional Office, 550 Foothill Drive, Salt Lake City, Utah 84148.

Vermont VT

VA Regional Office, 215 North Main Street, White River Junction, Vermont 05001.

Virginia VA

VA Regional Office, 210 Franklin Rd., SW, Roanoke, Virginia 24011.

Washington WA

VA Regional Office, Federal Bldg., 915 Second Ave., Seattle, Washington 98174.

West Virginia WV

VA Regional Office, 640 4th Ave., Huntington, West Virginia 25701.

Wisconsin WI

VA Regional Office, 5400 W. National Ave., Milwaukee, Wisconsin 53214.

Wyoming WY

VA Regional Office and Medical Center, 2360 East Pershing Blvd., Cheyenne, Wyoming 82001.

[FR Doc. 2010-25237 Filed 10-5-10; 8:45 am]

BILLING CODE P